FEDERAL RESERVE SYSTEM

Change in Bank Control Notices; Acquisitions of Shares of a Bank or Bank Holding Company

The notificants listed below have applied under the Change in Bank Control Act (12 U.S.C. 1817(j)) and § 225.41 of the Board's Regulation Y (12 CFR 225.41) to acquire shares of a bank or bank holding company. The factors that are considered in acting on the notices are set forth in paragraph 7 of the Act (12 U.S.C. 1817(j)(7)).

The notices are available for immediate inspection at the Federal Reserve Bank indicated. The notices also will be available for inspection at the offices of the Board of Governors. Interested persons may express their views in writing to the Reserve Bank indicated for that notice or to the offices of the Board of Governors. Comments must be received not later than May 29, 2012.

A. Federal Reserve Bank of Cleveland (Nadine Wallman, Vice President) 1455 East Sixth Street, Cleveland, Ohio 44101-2566:

1. LM III TriState Holdings LLC; LM III-A TriState Holdings LLC; Lovell Minnick Equity Partners III LP; Lovell Minnick Equity Partners III-A LP; Lovell Minnick Equity Advisors III LP; Fund III UGP LLC; Lovell Minnick Partners LLC; and Lovell Minnick Holdings LLC; all of Radnor, Pennsylvania, to acquire voting shares of TriState Capital Holdings, Inc., and thereby indirectly control TriState Capital Bank, both of Pittsburgh, Pennsylvania.

Board of Governors of the Federal Reserve System, May 7, 2012.
Robert deV. Frierson,
Deputy Secretary of the Board.

[FR Doc. 2012-11301 Filed 5-9-12; 8:45 am]

BILLING CODE 6210-01-P